DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 29 through July 10, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially

separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,300; Exide Technologies, Recycling Plant, Leased Workers From Lofton Staffing Services, Baton Rouge, LA: May 19, 2008.

TA-W-70,542; Leroy Somer North America, Lexington, TN: May 20, 2008.

TA-W-70,717; Warvel Products, Inc., Linwood, NC: May 28, 2008.

TA-W-70,825; Vitec Group Communication, Clearcom Division, Alameda, CA: May 29, 2008.

TA-W-70,275; Bauhaus USA, Inc., Saltillo, MS Facility, Saltillo, MS: May 19, 2008.

TA-W-70,619; Delphi Thermal Systems, Leased Workers From Bartech Staffing Agency, Auburn Hills, MI: May 18, 2008.

The following certifications have been issued. The requirements of Section 222(a)(2)(B) (shift in production or services) of the Trade Act have been met.

TA-W-70,062; Mulholland Brothers, Leased Workers of Nelson Staffing and Cypress IT, San Francisco, CA: May 18, 2008.

TA-W-70,103; Vesuvius USA, A Subsidiary of Cookson Group, Leased Workers From Westaff, Charleston, IL: May 18, 2008.

TA-W-70,136; Hyosung USA, Inc, Utica Plant, Leased Workers From Kelly Services, Utica, NY: May 18, 2008.

TA-W-70,186; Engel Machinery, Inc., Leased Workers From JFC Staffing Associates and Manpower, York, PA: May 18, 2008.

TA-W-70,188; Century Mold Co., Inc., Leased Workers From Randstad Staffing and Holland Group Staffing, Shelbyville, TN: May 18, 2008.

TA-W-70,192; Franklin Pump Systems, Inc, A Unit of Franklin Electric Sales, Inc., Little Rock, AR. May 18, 2008.

TA-W-70,199; WestPoint Home, Inc., Bed Products Division, Chipley, FL: June 13, 2009.

TA-W-70,206; Doral Manufacturing, Inc., TEVA Pharmaceuticals, Leased Workers Albion, Misource and Adecco, Miami, FL: May 18, 2008.

TA-W-70,252; Ogden Manufacturing, Inc., Edinboro Plant, Chromalox, Inc, Edinboro, PA. May 18, 2008.

TA-W-70,274; Avantech Manufacturing, LLC, Magna International, Leased Workers From Express Services And Randstad, Mt. Pleasant, TN: May 19, 2008.

TA-W-70,276; EcoQuest Holding Corporation, Greeneville, TN: May 18, 2008.

TA-W-70,291; Maxim Integrated Products, Dallas, TX: May 19, 2008.

TA-W-70,293; ZMI Portec, Inc., Leased Workers From Transfer Bluk Systems, Sibley, IA: May 5, 2008.

TA-W-70,301; May and Scofield, LLC, Leased Workers From Qualified Staffing and SC Staffing, Fowlerville, MI. May 18, 2008.

TA-W-70,304; Biovail Laboratories International, SRL, Leased Workers From Manpower, CTS, Dorado, PR: May 18, 2008.

TA-W-70,307; Morton Metalcraft of Pennsylvania, Leased Workers of Bedford County Tech Center, Bedford, PA: May 19, 2008.

TA-W-70,308; Milso Industries—Matthews Casket Division, Matthews International Corporation, Richmond, IN: May 19, 2008.

TA-W-70,360; Federal-Mogul Ignition Products, Powertrain Energy Division, Dumas, AR. May 19, 2008.

TA-W-70,401; IM Flash Technologies, LLC, Information Systems Division, Lehi, UT: May 18, 2008.

TA-W-70,434; Flextronics America, LLC, Leased Workers of Aerotek, Charlotte, NC. May 18, 2008.

TA-W-70,676; Everett Charles Technologies, Longmont, CO: May 26, 2008.

TA-W-70,707; Sperian Protection Gloves, USA, Buffalo, NY: May 19, 2008.

TA-W-70,740; Intermatic, Inc., Working World Staffing, American Staffing, Prologistix, Spring Grove, IL: May 28, 2008.

TA-W-70,744; Callaway Golf Ball Operations, Inc., Leased Workers From Johnson & Hill Staffing, Chicopee, MA: May 28, 2008.

TA-W-70,753; Hitachi Cable Indiana Inc., Leased Workers of Quality Personnel, Russell Springs, KY. May 20, 2008.

TA-W-70,775; Birks and Mayors, Inc., Workers Mania and Staff U Smart, Woonsocket, RI: May 19, 2008.

TA-W-70,880; Roadrunner Transportation Services, Billing Department, Cudahes, WI: June 2, 2008.

TA-W-70,933; California Newspaper Partnership, dba Maria Independent Journal, Novato, CA: June 1, 2008.

TA-W-70,971; Sumitomo Electric Wiring Systems Inc., Electronics Div., Express Employment Professionals, Lebanon, OH: May 18, 2008.

TA-W-71,077; Wal-Mart Stores East, LP, Health and Wellness Division, Wal-Mart Optical Lab 9779, CBS Personnel, Lockbourne, OH: June 5, 2008.

TA-W-71,321; Auburn Hosiery Mills, Inc., Quality Personnel, Auburn, KY: June 18, 2008.

TA-W-70,345; Avery Dennison, Information and Brand Management Division, Formerly know as Paxar Americas, Sayre, PA: May 18, 2008.

TA-W-70,005; The Mazer Corporation, Creative Services Division, Dayton, OH: May 18, 2008.

TA-W-70,163; Electronic Data Systems (EDS), An HP Company, Leased Workers Dedicated to Mainframe Security/Password, Charlotte, NC: May 18, 2008.

TA-W-70,200; VWR International, LLC, Finance Department, Bridgeport, NJ: May 18, 2008.

TA-W-70,213; Levi Strauss and Company, Global Sourcing Organization, San Francisco, CA: May 18, 2008.

TA-W-70,427; Hewlett-Packard Company, America's Volume Direct Operations (AVDO), Carmel, IN: May 19, 2008.

TA-W-71,354; Rodale, Inc., Customer SerVice Department, Uniforce Staffing Services and Allied, Emmaus, PA: June 9, 2008.

The following certifications have been issued. The requirements of Section 222(b) (adversely affected workers in public agencies) of the Trade Act have been met: None.

The following certifications have been issued. The requirements of Section 222(c) (supplier to a firm whose workers are certified eligible to apply for TAA) of the Trade Act have been met.

TA-W-70,013; Russell Brands, LLC, Coosa River Yarn Division, Wetumpka, AL: May 18, 2008.

TA-W-70,015A; Jim C. Hamer Company, Prestonsburg Mill, Prestonsburg, KY: May 18, 2008.

TA-W-70,015B; Jim C. Hamer Company, Curtin Mill, Webster Springs, WV: May 18, 2008.

TA-W-70,015C; Jim C. Hamer Company, Morgantown Mill, Morgantown Mill, WV: May 18, 2008.

TA-W-70,015D; Jim C. Hamer Company, Elkins Dry Kiln, Elkins, WV: May 18, 2008.

TA-W-70,015E; Jim C. Hamer Company, Mt. Hope Mill, Mt. Hope, WV: May 18, 2008.

TA-W-70,015F; Jim C. Hamer Company, Mt. Hope Mill, Mt. Hope, WV: May 18, 2008.

TA-W-70,015; Jim C. Hamer Company, Kenova, WV: May 18, 2008.

TA-W-70,106; TG Missouri Corporation, A Division of TG North American, Perryville, MO: May 18, 2008.

TA-W-70,239; Southern Steel and Wire Company, Inc., SSW Molding Company, Inc., Fort Smith, AR: May 18, 2008.

TA-W-70,260A; Ring Screw LLC—Warren Operations, dba Acument Global Technologies—Warren Operations, Warren, MI: May 18, 2008.

TA-W-70,260B; Ring Screw LLC—Detroit Distribution Center, dba Acument Global Technologies—Detroit Distribution Center, Detroit, MI: May 18, 2008.

TA-W-70,260C; Ring Screw LLC—Titan Fasteners, dba Acument Global Technologies—North Holly Road Operations, Manpower, Holly, MI: May 18, 2008.

TA-W-70,260D; Burkland LLC—Goodrich Operations, dba Acument Global Technologies—Entech Personnel Services, Goodrich, MI: May 18, 2008.

TA-W-70,260E; Ring Screw LLC—Gainey Operations, dba Acument Global Technologies, Holly, MI: May 18, 2008.

TA-W-70,260F; Ring Screw LLC—Shamrock Fasteners, dba Acument Global Technologies—Sterling Heights Operations, Sterling Heights, MI: May 18, 2008.

TA-W-70,260G; Acument Global Technologies—Headquarters, Leased Workers of CES, Inc., Venator Staffing and Diversified Services, Troy, MI: May 18, 2008.

TA-W-70,260H; Ring Screw LLC—Semco Fasteners, dba Acument Global Technologies—Balwin Road Operations, Holly, MI: May 18, 2008.

TA-W-70,260I; Ring Screw LLC—Holly Distribution Center, dba Acument Global Technologies—Holly Distribution Center, Holly, MI: May 18, 2008.

TA-W-70,260J; Camcar LLC—Belvidere Operations, dba Acument Global Technologies—Belvidere Operations, Belvidere, MI: May 18, 2008.

TA-W-70,260K; Camcar LLC—Spencer Operations, dba Acument Global Technologies—Spencer Operations, Spencer, TN: May 18, 2008.

TA-W-70,260L; Camcar LLC—Rochester Operations, dba Acument Global Technologies—Rochester Operations, Rochester, IN: May 18, 2008.

TA-W-70,260; Ring Screw LLC—Fenton Operations, dba Acument Global Technologies—Fenton Operations, Fenton, MI: May 18, 2008.

TA-W-70,766; Meridian Automotive Systems, Grand Rapids, MI: May 21, 2008.

TA-W-70,812; Performances Fibers Operations, Inc., Salisbury Plant, Mundy Maintenance, UTi Integrated, Salisbury, NC. May 29, 2008.

The following certifications have been issued. The requirements of Section 222(c) (downstream producer for a firm whose workers are certified eligible to apply for TAA) of the Trade Act have been met: None.

The following certifications have been issued. The requirements of Section 222(f) (firms identified by the International Trade Commission) of the Trade Act have been met: None.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met: None.

The investigation revealed that the criteria under paragraphs (a)(2)(A)(i) (decline in sales or production, or both) and (a)(2)(B) (shift in production or services to a foreign country) of section 222 have not been met: None.

The investigation revealed that the criteria under paragraphs(a)(2)(A) (increased imports) and (a)(2)(B) (shift in production or services to a foreign country) of section 222 have not been met: None.

The investigation revealed that the criteria under paragraphs (b)(2) and (b)(3) (public agency acquisition of services from a foreign country) of section 222 have not been met: None.

The investigation revealed that criteria of Section 222(c)(2) has not been met. The workers' firm (or subdivision) is not a Supplier to or a Downstream Producer for a firm whose workers were certified as eligible to apply for TAA: None.

I hereby certify that the aforementioned determinations were issued during the period of June 29 through July 10, 2009. Copies of these determinations are available for inspection in Room N-5428, U.S. Department of Labor, 200 Constitution Avenue, NW., Washington, DC 20210 during normal business hours or will be mailed to persons who write to the above address.

Dated: August 5, 2009.
Linda G. Poole,
Certifying Officer, Division of Trade Adjustment Assistance.

[FR Doc. E9-19831 Filed 8-18-09; 8:45 am]

BILLING CODE 4510-FN-P